FEDERAL TRADE COMMISSION

Cigarette and Smokeless Tobacco Reports; Request for Public Comment

AGENCY: Federal Trade Commission.

ACTION: Request for public comments.

SUMMARY: The Federal Trade Commission (“FTC” or “Commission”) is soliciting comments to help it determine whether to continue to issue reports on the sales, advertising and promotion of cigarettes and smokeless tobacco products, as well as the formats for any such reports.

DATES: Written comments must be received on or before June 11, 2001.

ADDRESSES: Submit comments to the Office of the Secretary, Federal Trade Commission, Room 159, 600 Pennsylvania Ave., NW., Washington, DC 20580. Five paper copies of each written comments should be submitted. All comments also should be submitted, if possible, in electronic form, on a 3½ inch personal computer diskette, with a label on the diskette stating the name of the commenter and the name and version of the word processing program used to create the document. Windows-based programs are preferred. Files from other operating systems should be submitted in ASCII text format. Individuals filing comments need not submit multiple copies or comments in electronic form. Comments alternatively may be submitted by electronic mail (e-mail) to Cigarette&Smokeless Tobacco Reports@ftc.gov. Submissions should be identified as “Cigarette and Smokeless Tobacco Reports.”

FOR FURTHER INFORMATION CONTACT: Michael Ostheimer, Division of Advertising Practices, Federal Trade Commission, 600 Pennsylvania Avenue, NW., Washington, DC 20580, (202) 326-2699.

SUPPLEMENTARY INFORMATION: The FTC has issued statutorily required reports to Congress on domestic sales and advertising and promotion expenditures for cigarettes and smokeless tobacco products.¹ The aggregate sales and marketing data in these reports are based on data submitted to the Commission pursuant to compulsory process by the largest cigarette and smokeless tobacco manufacturers in the United States.

¹ Beginning in 1967, the Commission submitted annual reports to Congress on cigarettes pursuant to the Federal Cigarette Labeling and Advertising Act. 15 U.S.C. 1331, et seq. Beginning in 1986, the Commission submitted biennially to Congress reports on smokeless tobacco pursuant to the Comprehensive Smokeless Tobacco Health Education Act. 15 U.S.C. 4401, et seq.

The Federal Reports Elimination and Sunset Act of 1995 terminated many mandatory reporting requirements, and allows agencies to assess the need for such reports.² Accordingly, the Commission is seeking public comment on whether it should continue to issue reports on the cigarette and smokeless tobacco industries and what forms any such reports should take.

² Pub. L. 104-66, section 3003(a)(1), 109 Stat. 734.

The Commission is seeking comments on the following questions:

1. Who uses the cigarette and smokeless tobacco reports? For what purposes do they use them?

2. What are the costs to the industries to provide the Commission with the date included in the cigarette and smokeless tobacco reports?

3. Should the Commission continue to collect and publish data regarding cigarette and smokeless tobacco sales, advertising and promotion? Why or why not?

4. What data or other information contained in the reports are useful and should be continued in any future reports? Why? What data or other information in previous reports are of little or no use, and could be omitted in future reports? Why?

5. Is there information about cigarette and smokeless tobacco sales, advertising and promotion that has not been included in the reports, but that would be of use? If so, what additional information would be of use, and why would it be useful?

6. If the Commission decides to continue issuing reports, how frequently should they be issued (e.g., annually, biennually)? Why?

7. What other information should the Commission consider in deciding whether to continue reporting on the sales and advertising and promotion of cigarettes and smokeless tobacco products. If the Commission decides to issue future reports, what formats would be useful?

By direction of the Commission.
Benjamin I. Berman,
Acting Secretary.

[FR Doc. 01-8828 Filed 4-9-01; 8:45 am]

BILLING CODE 6750-01-M